DEPARTMENT OF THE INTERIOR

National Park Service

[2031-A046-409]

Environmental Impact Statement for the Big Cypress National Preserve Addition, Florida

AGENCY: National Park Service.

ACTION: Notice of Availability of the Record of Decision and Floodplain Statement of Findings for the General Management Plan/Wilderness Study/Off-Road Vehicle Management Plan/Environmental Impact Statement for the Big Cypress National Preserve Addition.

SUMMARY: Pursuant to the National Environmental Policy Act of 1969, the National Park Service (NPS) announces the availability of the Record of Decision (ROD) and Floodplain Statement of Findings for the General Management Plan/Wilderness Study/Off-Road Vehicle Management Plan/Environmental Impact Statement (EIS) for the Big Cypress National Preserve Addition, Florida. On February 4, 2011, the Regional Director, Southeast Region, approved the ROD for the project.

SUPPLEMENTARY INFORMATION: Four alternatives were evaluated in the Environmental Impact Statement. These include: Alternative A, No Action—continues current management; Alternative B—enables visitor participation in a wide variety of outdoor recreational experiences; Alternative F—emphasizes resource preservation, restoration, and research while providing recreational opportunities with limited facilities and support; and the Preferred Alternative—provides diverse frontcountry and backcountry recreational opportunities, enhances day use and interpretive opportunities along road corridors, and enhances recreational opportunities with new facilities and services. The Environmental Impact Statement also evaluated the impacts of a wilderness study and an off-road vehicle management plan.

The Preferred Alternative is NPS' selected alternative. The ROD includes a statement of the decision made, a description of mitigation measures and monitoring, synopses of other alternatives considered, the basis for the decision, a description of the environmentally preferable alternative, an overview of public involvement in the decision-making process, the U.S. Fish and Wildlife Service's Biological Opinion for the project, a finding of no impairment of Preserve resources and values, and a Floodplain Statement of Findings.

ADDRESSES: The ROD is available online at http://parkplanning.nps.gov/bicy. You may request a hard copy by contacting Pedro Ramos, Superintendent, Big Cypress National Preserve, 33100 Tamiami Trail East, Ochopee, FL 34141-1000.

FOR FURTHER INFORMATION CONTACT: Pedro Ramos, Superintendent, Big Cypress National Preserve, 33100 Tamiami Trail East, Ochopee, FL 34141-1000; telephone 239-695-1103. pedro_ramos@nps.gov.

Authority: The authority for publishing this notice is 40 CFR 1506.6.

The responsible official for this Record of Decision is the Regional Director, Southeast Region, National Park Service, 100 Alabama Street, SW., 1924 Building, Atlanta, Georgia 30303.

Dated: May 13, 2011.
Gordon Wissinger,
Deputy Regional Director, Southeast Region, National Park Service.

[FR Doc. 2011-11969 Filed 5-20-11; 8:45 am]

BILLING CODE 4310-V6-P